DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or obtain a copy of the information collection plans, call the SAMHSA Reports Clearance Officer at 240-276-0361.

Comments are invited on (a) whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Data Resource Toolkit Protocol for the Crisis Counseling Assistance and Training Program (OMB No. 0930-0270) —Reinstatement

The SAMHSA Center for Mental Health Services (CMHS), as part of an interagency agreement with the Federal Emergency Management Agency (FEMA), provides a toolkit to be used for the purposes of collecting data on the Crisis Counseling Assistance and Training Program (CCP). The CCP provides supplemental funding to states, territories, and tribes for individual and community crisis intervention services after a presidentially declared disaster.

The CCP has provided disaster mental health services to millions of disaster survivors since its inception, and, with more than 30 years of accumulated expertise, it has become an important model for federal response to a variety of catastrophic events. Recent CCP grants have been issued for nearly all 50 states, 5 territories, and 1 tribe. These grants have helped survivors of disasters such asthe coronavirus disease 2019 (COVID-19) pandemic in 2020 and 2021; Hurricanes Laura and Iota in 2020; and wildfires, severe storms, flooding, and earthquakes in 2019 through 2021. CCPs address the short-term mental health needs of communities primarily through (a) outreach and public education, (b) individual and group counseling, and (c) referral. Outreach and public education serve primarily to normalize disaster reactions and to engage people who may need further care. Crisis counseling assists survivors in coping with current stress and symptoms to return to pre-disaster functioning. Crisis counseling relies largely on “active listening,” and crisis counselors also provide psycho-education (especially about the nature of responses to trauma) and help clients build coping skills. Crisis counselors typically work with a single client once or a few times. Because crisis counseling is time-limited, referral is the third important function of CCPs. Counselors are expected to refer a survivor to formal treatment if he or she has developed a mental and/or substance use disorder or is having difficulty in coping with his or her disaster reactions.

Data about services delivered and users of services are collected throughout the program period. The data are collected via the use of a toolkit that relies on standardized forms. At the program level, the data are entered quickly and easily into a cumulative database mainly through mobile data entry or paper forms (depending on resource availability) to yield summary tables for quarterly and final reports for the program. Mobile data entry allows for the data to be uploaded and linked to a national database that houses data collected across CCPs. This database provides SAMHSA CMHS and FEMA with a way of producing summary reports of services provided across all programs funded.

The components of the toolkit are listed and described below:

• Encounter logs. These forms document all services provided. The CCP requires crisis counselors to complete these logs. There are three types of encounter logs: (1) Individual/Family Crisis Counseling Services Encounter Log, (2) Group Encounter Log, and (3) Weekly Tally Sheet.

○ Individual/Family Crisis Counseling Services Encounter Log. Crisis counseling is defined as an interaction that lasts at least 15 minutes and involves participant disclosure. This form is completed by the crisis counselor for each service recipient, defined as the person or people who actively participated in the session (that is, by participating in conversation), not someone who is merely present. One form may be completed for all family or household members who are actively engaged in the visit. Information collected includes demographics, service characteristics, risk factors, event reactions, and referral data.

○ Group Encounter Log. This form is used to collect data on either a group crisis counseling encounter or a group public education encounter. The crisis counselor indicates in a checkbox the class of activities (that is, counseling or education). Information collected includes service characteristics, group identity and characteristics, and group activities.

○ Weekly Tally Sheet. This form documents brief educational and supportive encounters not captured on any other form. Information collected includes service characteristics, daily tallies, and weekly totals for brief educational or supportive contacts, material distribution with no or minimal interaction, and social media activity.

• Assessment and Referral Tools (ARTs). These tools—one for adults and one for children and youth—provide descriptive information about intensive users of services, defined as all individuals receiving a third or fifth individual crisis counseling visit or those who are continuing to experience severe post-disaster distress that may be affecting their ability to perform daily activities. This tool will typically be used beginning 3 months after the disaster and will be completed by the crisis counselor.

• Participant Feedback Survey. These surveys are completed by and collected from a sample of service recipients, not every recipient. Sampling is done on a biannual basis at 6 months and 1 year after the disaster. Information collected includes satisfaction with services, perceived improvements in coping and functioning, types of exposure, and event reactions.

• Service Provider Feedback Form. These surveys are completed by and collected from the CCP service providers anonymously at 6 months and 1 year after the disaster. The survey is coded on several program-level as well as worker-level variables. However, the program is only identified and shared with program management if more than 10 individual workers complete the survey.

There are no changes to the Participant Feedback Survey and Service Provider Feedback Form since the last approval. Revisions to the Individual Encounter Log include rewording the category “adult (18-39 years)” to “young adult (18-29 years)” to clarify age categories; adding a question about recent move from another county to the United States; rewording selections for telephone calls to differentiate between incoming and outgoing calls; adding a location selection for virtual services; rewording risk category selections to incorporate stressors related to impacts of the COVID-19 pandemic (e.g., underemployment, illness, virtual learning for children/youth, and physical distancing/social isolation); and adding risk category selections that address stressors including food insecurity, lack of access to reliable information, and lack of access to reliable transportation. For the Group Encounter Log, changes include adding a location selection for virtual services and adding a question about recent immigration to the United States. For the Weekly Tally Sheet, changes include rewording the category for brief educational contact to include virtual contact, rewording the categories for phone calls to differentiate between incoming and outgoing calls, rewording the electronic interaction category to encompass more channels than just email (e.g., text, chat, direct messages), rewording the materials mailed category to include emailed materials, rewording the social media messages category to clarify that it is only for posts to social media channels, and adding categories to better record reach and engagement of social media efforts. Minor changes to demographics, location of service, and risk categories were submitted for the Adult ART and Child/Youth ART to align the forms with the Individual/Family Crisis Counseling Services Encounter Log. The assessment tool sections of the ARTs were not changed. The estimates of the annualized burden hours are provided in Table 1.

Table 1—Annualized Hour Burden Estimates
Data collection instrument | Estimated number of respondents | Responses per respondent | Total responses | Hours per response | Total hour burden
Individual/Family Crisis Counseling Services Encounter Log | ¹ 1,500 | ² 190 | 285,000 | 0.08 | 22,800
Group Encounter Log | ³ 750 | ³ 33 | 24,750 | 0.05 | 1,238
Weekly Tally Sheet | ¹ 1,500 | ⁴ 52 | 78,000 | 0.15 | 11,700
Assessment and Referral Tools | ¹ 1,500 | ⁵ 14 | ⁶ 14,250 | 0.17 | 2,423
Participant Feedback Form | 2,000 | 1 | 2,000 | 0.25 | 500
Service Provider Feedback Form | ⁷ 750 | 1 | 750 | 0.41 | 308
Total | 8,000 |  | 404,750 |  | 38,969
¹ This value (1,500) is based on an average of 50 full-time equivalent (FTE) crisis counselors per grant with an approximate average of 30 grants per year (i.e., 50 × 30 = 1,500).
² On average, each FTE crisis counselor will complete 190 forms over the course of the grant.
³ On average, a pair of FTE crisis counselors completes one form per week (i.e., two counselors completing one form = 750 crisis counselors) for 33 weeks.
⁴ The average length of a CCP grant is 52 weeks.
⁵ On average, each FTE crisis counselor will complete 14 Assessment Referral Tool forms over the course of the grant.
⁶ On average, 5 percent of the Individual/Family Crisis Counseling Services Encounter Logs completed will result in the use of this tool (i.e., 285,000 logs × 5% = 14,250).
⁷ On average, 50 percent of service providers/crisis counselors may complete or use this tool.

Send comments to Carlos D. Graham, SAMHSA Reports Clearance Officer, 5600 Fishers Lane, Room 15E57-A, Rockville, Maryland 20857, or email a copy to Carlos.Graham@samhsa.hhs.gov. Written comments should be received by June 6, 2022.

Carlos Graham,
Reports Clearance Officer.

[FR Doc. 2022-07294 Filed 4-5-22; 8:45 am]

BILLING CODE 4162-20-P